DEPARTMENT OF COMMERCE

National Oceanic and Atmospheric Administration

50 CFR Part 622

[Docket No. 160426363-7275-02; RTID 0648-XC590]

Coastal Migratory Pelagic Resources of the Gulf of Mexico and Atlantic Region; 2022-2023 Commercial Quota Reduction for King Mackerel in the Run-Around Gillnet Fishery of the Gulf of Mexico

AGENCY: National Marine Fisheries Service (NMFS), National Oceanic and Atmospheric Administration (NOAA), Commerce.

ACTION: Temporary rule; commercial quota reduction.

SUMMARY: NMFS implements an accountability measure (AM) through this temporary rule for commercial harvest of king mackerel in the southern zone of the Gulf of Mexico (Gulf) exclusive economic zone (EEZ) using run-around gillnet gear. NMFS has determined that landings of king mackerel harvested by run-around gillnet gear in the Gulf southern zone exceeded the commercial annual catch limit (ACL) in the 2021-2022 fishing year. Therefore, NMFS reduces the southern zone commercial ACL for king mackerel fishing using run-around gillnet gear in the Gulf EEZ during the 2022-2023 fishing year. This commercial ACL reduction is necessary to protect the Gulf king mackerel resource.

DATES: The temporary rule is effective from 6 a.m. local time on January 17, 2023, through June 30, 2023.

FOR FURTHER INFORMATION CONTACT: Kelli O'Donnell, NMFS Southeast Regional Office, telephone: 727-824-5305, email: kelli.odonnell@noaa.gov.

SUPPLEMENTARY INFORMATION: The fishery for coastal migratory pelagic fish in the Gulf includes king mackerel, Spanish mackerel, and cobia, and is managed under the Fishery Management Plan for the Coastal Migratory Pelagic Resources of the Gulf of Mexico and Atlantic Region (FMP). The FMP was prepared by the Gulf of Mexico and South Atlantic Fishery Management Councils, and is implemented by NMFS under the authority of the Magnuson-Stevens Fishery Conservation and Management Act (Magnuson-Stevens Act) by regulations at 50 CFR part 622.

All weights for the Gulf migratory group of king mackerel (Gulf king mackerel) described in this temporary rule apply as either round or gutted weight.

The commercial ACL, which is equivalent to the commercial quota, for Gulf king mackerel is divided into separate ACLs (quotas) for hook-and-line and run-around gillnet gear. The use of run-around gillnets for king mackerel is restricted to the Gulf southern zone. The Gulf southern zone includes the EEZ off Collier and Monroe Counties in south Florida. The Gulf southern zone encompasses an area of the EEZ south of a line extending due west from the boundary of Lee and Collier Counties on the southwest coast of Florida, and south of a line extending due east from the boundary of Monroe and Miami-Dade Counties on the southeast coast of Florida (50 CFR 622.369(a)(1)(iii)).

For the 2021-2022 fishing season, the commercial gillnet quota for Gulf king mackerel was 575,400 lb (260,997 kg). Regulations at 50 CFR 622.8(b) and 622.388(a)(1)(i) require NMFS to close any component of the king mackerel commercial sector when its respective quota has been reached, or is projected to be reached, by filing a notification with the Office of the Federal Register. On March 2, 2022, NMFS determined that the 2021-2022 commercial gillnet quota had been reached, and closed the commercial gillnet component for the remainder of the 2021-2022 fishing year (87 FR 11596, March 2, 2022).

NMFS' most recent landings data for the 2021-2022 fishing year indicate that the commercial gillnet component exceeded its 575,400-lb (260,997-kg) quota by 18,962 lb (8,601 kg). The AM specified in 50 CFR 622.388(a)(1)(iii) states if commercial landings of king mackerel caught by run-around gillnet gear exceed the commercial gillnet ACL, then NMFS will reduce the commercial gillnet ACL in the following fishing year by the amount of the ACL overage.

The fishing season for run-around gillnet gear is currently closed from July 1, 2022, through January 16, 2023, and will open at 6 a.m. local time on January 17, 2023. The 2022-2023 fishing year continues through June 30, 2023. On December 7, 2022, NMFS published a final rule implementing Framework Amendment 11 under the FMP (87 FR 74989). The final rule increased the catch limits for Gulf king mackerel, including the commercial quota for harvest by gillnet gear. Effective January 6, 2023, the king mackerel commercial gillnet component quota for the 2022-2023 fishing year will be 671,328 lb (304,509 kg).

Consistent with the AM, NMFS reduces the 2022-2023 commercial gillnet quota by the amount of the 2021-2022 commercial gillnet ACL overage to 634,222 lb (287,678 kg). If king mackerel commercial gillnet landings do not exceed the ACL in the 2022-2023 fishing year, then in the 2023-2024 fishing year, the component's commercial quota will be 671,328 lb (304,509 kg) as specified in 50 CFR 622.384(b)(1)(iii)(B).

Classification

NMFS issues this action pursuant to section 305(d) of the Magnuson-Stevens Act. This action is required by 50 CFR 622.388(a)(1)(iii), which was issued pursuant to section 304(b), and is exempt from review under Executive Order 12866.

Pursuant to 5 U.S.C. 553(b)(B), there is good cause to waive prior notice and an opportunity for public comment on this action, because prior notice and opportunity for public comment on this temporary rule is unnecessary. Such procedure is unnecessary because the rule that implemented the commercial ACL and the associated AM for the commercial ACL reduction has already been subject to public notice and comment, and all that remains is to notify the public of the commercial ACL reduction.

Authority: 16 U.S.C. 1801 et seq.

Dated: December 19, 2022.
Kelly Denit,
Director, Office of Sustainable Fisheries, National Marine Fisheries Service.

[FR Doc. 2022-27915 Filed 12-22-22; 8:45 am]

BILLING CODE 3510-22-P